DEPARTMENT OF VETERANS AFFAIRS

[OMB Control No. 2900-0768]

Agency Information Collection Activity Under OMB Review: Program of Comprehensive Assistance for Family Caregivers (PCAFC)

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0768.”

FOR FURTHER INFORMATION CONTACT: Maribel Aponte, Office of Enterprise and Integration, Data Governance Analytics (008), 810 Vermont Avenue NW, Washington, DC 20420, (202) 266-4688 or email maribel.aponte@va.gov. Please refer to “OMB Control No. 2900-0768” in any correspondence.

SUPPLEMENTARY INFORMATION:

Authority: 44 U.S.C. 3501-3521.

Title: Program of Comprehensive Assistance for Family Caregivers (PCAFC) (VA Form 10-10CG).

OMB Control Number: 2900-0768.

Type of Review: Revision of a currently approved collection.

Abstract: Authority for this information collection is found in Public Law (Pub. L.) 111-163, Caregivers and Veterans Omnibus Health Services Act of 2010, as amended in title 38 United States Code chapter 17 by adding a new section, 1720G, “Assistance and Support Services for Caregivers.” Section 1720G required the Department of Veterans Affairs (VA) to develop a Program of Comprehensive Assistance for Family Caregivers and Support Services. Under the law, Primary Family Caregivers may be eligible to receive a stipend, access to health care coverage, mental health counseling, comprehensive caregiver education and training, and expanded respite services. Caregivers also may be eligible for travel benefits when they accompany the Veteran for care or attending training.

In order to administer these benefits to caregivers, it is necessary that the VA receive information about the nature of benefit being sought and the persons who will be serving as caregivers and receiving benefits. This information is collected with VA Form 10-10CG, which is currently approved under Office of Management and Budget (OMB) Control Number 2900-0768. VA requests a three-year renewal of the PRA clearance for 10-10CG from OMB to continue with the collection of this information, which is necessary to administer VA's Program of Comprehensive Assistance for Family Caregivers (PCAFC).

An agency may not conduct or sponsor, and a person is not required to respond to, a collection of information unless it displays a currently valid OMB control number. The Federal Register Notice with a 60-day comment period soliciting comments on this collection of information was published at 88 FR 186 on September 27, 2023, pages 66554 and 66555.

Affected Public: Individuals or Households.

Estimated Annual Burden: 27,668 hours.

Estimated Average Burden per Respondent: 15 minutes.

Frequency of Response: Once annually.

Estimated Number of Respondents: 110,671.

By direction of the Secretary.
Maribel Aponte,
VA PRA Clearance Officer, Office of Enterprise and Integration, Data Governance Analytics, Department of Veterans Affairs.

[FR Doc. 2023-26752 Filed 12-5-23; 8:45 am]

BILLING CODE 8320-01-P